DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 12, 2008.

Interested persons are invited to submit written comments regarding the subject matter of the investigations to the Director, Division of Trade Adjustment Assistance, at the address shown below, not later than May 12, 2008.

The petitions filed in this case are available for inspection at the Office of the Director, Division of Trade Adjustment Assistance, Employment and Training Administration, U.S. Department of Labor, Room C-5311, 200 Constitution Avenue, NW., Washington, DC 20210.

Signed at Washington, DC, this 24th day of April 2008.
Erin FitzGerald,
Director, Division of Trade Adjustment Assistance.

Appendix—TAA
[Petitions instituted between 4/14/08 and 4/18/08]
TA-W | Subject firm (petitioners) | Location | Date of institution | Date of petition
63179 | Chippenhook Corporation (State) | North Stonington, CT | 04/14/08 | 04/11/08
63180 | Spartech Packaging Technologies (State) | Mankato, MN | 04/14/08 | 04/11/08
63181 | The Hall China Company (Comp) | East Liverpool, OH | 04/14/08 | 04/10/08
63182 | New England Confectionery Company (Comp) | Pewaukee, WI | 04/14/08 | 04/11/08
63183 | Tenneco (Union) | Milan, OH | 04/14/08 | 04/10/08
63184 | Parat Automotive USA (Comp) | Duncan, SC | 04/14/08 | 04/11/08
63185 | Spectrum Yarns, Inc. (Comp) | Kings Mountain, NC | 04/15/08 | 04/14/08
63186 | Chattanooga Group (Comp) | Hixson, TN | 04/15/08 | 04/10/08
63187 | Baldwin Hardware/Black and Decker (Comp) | Reading, PA | 04/15/08 | 04/13/08
63188 | Emerson Motor Company dba Hurst Manufacturing (Comp) | Princeton, IN | 04/15/08 | 04/14/08
63189 | Imation Corporation (Comp) | Wahpeton, ND | 04/15/08 | 04/14/08
63190 | Bay Valley Foods (Union) | Portland, OR | 04/15/08 | 04/14/08
63191 | Chrysler Newark Assembly (UAW) | Newark, DE | 04/15/08 | 04/14/08
63192 | Shiloh Industries (UAW) | Valley City, OH | 04/16/08 | 04/14/08
63193 | JP Morgan Chase Bank, NA (Wkrs) | Troy, MI | 04/16/08 | 04/15/08
63194 | The Home Depot (State) | Atlanta, GA | 04/16/08 | 04/09/08
63195 | Roadway (Rep) | Rockingham, NC | 04/16/08 | 03/21/08
63196 | L.A. Go (State) | Los Angeles, CA | 04/16/08 | 04/14/08
63197 | Dan River, Inc. (Wkrs) | Danville, VA | 04/16/08 | 04/14/08
63198 | Emdeon Business Services (Comp) | Nashville, TN | 04/16/08 | 04/15/08
63199 | Air Products and Chemicals, Inc. (Comp) | Morrisville, PA | 04/16/08 | 04/10/08
63200 | Ranco North America, LP/Invensys Controls (Wkrs) | Brownsville, TX | 04/16/08 | 04/14/08
63201 | MPC Computers, LLC (Comp) | La Vergne, TN | 04/16/08 | 04/15/08
63202 | Tara Materials, Inc. (Comp) | Lawrenceville, GA | 04/17/08 | 04/07/08
63203 | Cone Denim White Oak Plant (Comp) | Greensboro, NC | 04/17/08 | 04/16/08
63204 | Klaussner Furniture Industries, Inc. (Rep) | Asheboro, NC | 04/17/08 | 04/16/08
63205 | Johnson Controls, Inc. (UAW) | Taylor, MI | 04/17/08 | 04/14/08
63206 | Springmaid-Wamsutta-Spring Direct Division (Wkrs) | Asheville, NC | 04/17/08 | 04/14/08
63207 | Automated Equipment, Inc. (Comp) | Paris, TN | 04/17/08 | 04/11/08
63208 | Tyco Electronics/Circuit Protection (Comp) | Milwaukee, WI | 04/17/08 | 04/14/08
63209 | Novartis Pharmaceuticals Corporation (State) | East Hanover, NJ | 04/17/08 | 04/16/08
63210 | Parkview Metal Products, LLC (Wkrs) | Las Cruces, NM | 04/17/08 | 04/08/08
63211 | Glen Gery Corporation (Comp) | Somerville, NJ | 04/17/08 | 04/11/08
63212 | Tweddle Group (Wkrs) | Clinton Township, MI | 04/18/08 | 04/08/08
63213 | Mitsubishi Kagaku Imaging Corporation (Comp) | Chesapeake, VA | 04/18/08 | 04/17/08
63214 | Action Mold and Machining, Inc. (Comp) | Grand Rapids, MI | 04/18/08 | 04/17/08
63215 | United Stars Industries, Inc. (Comp) | Beloit, WI | 04/18/08 | 04/10/08
63216 | Sartorius Stedim Botech (Wkrs) | Bethelem, PA | 04/18/08 | 04/16/08
63217 | Escalade Sports, Inc. (IUECWA) | Evansville, IN | 04/18/08 | 04/16/08

[FR Doc. E8-9658 Filed 5-1-08; 8:45 am]

BILLING CODE 4510-FN-P